DEPARTMENT OF THE INTERIOR

Bureau of Land Management

[CO-930-1430-ET; COC-28504]

Public Land Order No. 7548; Partial Revocation of Executive Order No. 5672; Colorado

AGENCY: Bureau of Land Management, Interior.

ACTION: Public Land Order.

SUMMARY: This order partially revokes an Executive Order which withdrew lands in Colorado and Wyoming for Public Water Reserve No. 143. This order only affects lands in Colorado and opens 209.61 acres to the operation of the public land laws and to nonmetalliferous location and entry under the United States mining laws. The lands have been and will remain open to mineral leasing and to metalliferous mining.

EFFECTIVE DATE: January 8, 2003.

FOR FURTHER INFORMATION CONTACT: Doris E. Chelius, BLM Colorado State Office, 2850 Youngfield Street, Lakewood, Colorado 80215, 303-239-3706.

SUPPLEMENTARY INFORMATION: The lands do not contain a water source and one of the parcels has been identified for disposal.

Order

By virtue of the authority vested in the Secretary of the Interior by Section 204 of the Federal Land Policy and Management Act of 1976, 43 U.S.C. 1714 (1994), it is ordered as follows:

1. Executive Order No. 5672, dated August 3, 1931, which withdrew lands for Public Water Reserve No. 143, is hereby revoked insofar as it affects the following described lands:

Sixth Principal Meridian

T. 8 N., R. 97 W., sec. 1, W½SW¼; sec. 2, N½SE¼; sec. 29, lots 17, 25, 26, 29, and 30 (previously lots 8 and 9).

The areas described aggregate 209.61 acres in Moffat County, Colorado.

2. At 9 a.m. on January 8, 2003, the lands described in paragraph 1 will be opened to operation of the public land laws generally, subject to valid existing rights, the provisions of existing withdrawals, other segregations of record, and the requirements of applicable law. All valid applications received at or prior to 9 a.m. on January 8, 2003, shall be considered as simultaneously filed at that time. Those received thereafter shall be considered in the order of filing.

3. At 9 a.m. on January 8, 2003, the lands described in paragraph 1 will be opened to nonmetalliferous location and entry under the United States mining laws, subject to valid existing rights, the provisions of existing withdrawals, other segregations of record, and the requirements of applicable law. Appropriation of any of the lands described in this order to nonmetalliferous mining under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: November 20, 2002.
Rebecca W. Watson,
Assistant Secretary—Land and Minerals Management.

[FR Doc. 02-30987 Filed 12-6-02; 8:45 am]

BILLING CODE 4310-JB-P